DEPARTMENT OF HEALTH AND HUMAN SERVICES

Centers for Disease Control and Prevention

[60Day-14-0923]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to CDC LeRoy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the National Tobacco Prevention and Control Public Education Campaign (OMB No. 0920-0923, exp. 4/30/2014)—Revision—National Center for Chronic Disease Prevention and Health Promotion (NCCDPHP), Centers for Disease Control and Prevention (CDC).

Background and Brief Description

The Centers for Disease Control and Prevention (CDC) requests a two-year Office of Management and Budget (OMB) approval to conduct a Web-based longitudinal study of smokers and non-smokers in the U.S. This study will be fielded for purposes of evaluating the CDC's National Tobacco Prevention and Control Public Education Campaign (The Campaign) and monitoring its longer term impact. We will conduct 5 survey waves of data collection among smokers and nonsmokers to facilitate repeated measures on outcomes relevant to the evaluation. Information will be collected about smokers' and non-smokers' awareness of and exposure to specific campaign advertisements, knowledge, attitudes, and beliefs related to smoking and secondhand smoke. The surveys will also measure behaviors related to smoking cessation (among the smokers in the sample) and behaviors related to non-smokers' encouragement of smokers to quit smoking and recommendations of cessation services. Data from these surveys will be used to examine the statistical relationships between exposure to The Campaign and changes in outcome variables relevant to the evaluation. This approach builds on previous phases of The Campaign and the evaluations of those phases.

This study will rely on Web surveys to be self-administered at home on personal computers. Specifically, we will conduct a multi-wave longitudinal study of smokers (5 waves) and non-smokers (4 waves) to facilitate repeated measures on outcomes related to the evaluation and to the work of CDC's Office on Smoking and Health. The wave 1 survey will be fielded in early 2014, upon OMB approval. Participants who complete the wave 1 survey will be surveyed again in a follow-up survey approximately three months later. Subsequent follow-up surveys (3 for smokers, 2 for nonsmokers) will occur periodically after the initial wave 1 and wave 2 surveys to assess long-term, lasting impacts of The Campaign. One of the primary purposes of the subsequent follow-up surveys will be to track longer-term cigarette abstinence among smokers who initially report quitting as a result of The Campaign. This will be essential to properly estimating the impact of The Campaign on long-term successful quitting. Tracking of longer term abstinence will require assessment of use of different products over time. In addition, the three additional follow-up surveys may include additional survey items on other topics of interest to the CDC and its stakeholders, including more in-depth information on marketing exposure and use of cigars, noncombustible tobacco products, and other emerging trends in tobacco use including electronic delivery devices (e.g., e-cigarettes). It is important to evaluate The Campaign in a context that assesses the dynamic nature of tobacco product marketing and uptake of various tobacco products as these can impact the success of The Campaign in motivating long-term quitting. Therefore, it may be necessary in the future to make additional requests to OMB for changes in the planned follow-up instruments to re-balance the content of the surveys to reflect these and other emerging trends in the tobacco product environment.

The sample for this study will originate from two sources: (1) A new online longitudinal cohort of smokers and nonsmokers, sampled randomly from postal mailing addresses in the U.S. using address based sampling (ABS) methods; and (2) the existing GfK KnowledgePanel, an established long-term online panel of U.S. adults. The new ABS-sourced longitudinal cohort will consist of smokers and nonsmokers who have not previously participated in any established online panels. This new cohort will be recruited by GfK, utilizing identical recruitment methods that are used in the recruitment of KnowledgePanel. The GfK KnowledgePanel will be used in combination with the new ABS-sourced cohort to support larger sample sizes that will allow for more in-depth subgroup analysis, which is a key objective of the CDC. All online surveys, regardless of sample source, will be conducted via the GfK KnowledgePanel Web portal for self-administered surveys.

Participation is voluntary and there are no costs to respondents other than their time.

Estimated Annualized Burden Hours
Type of respondent | Form name | Number of respondents | Number of responses per respondent | Average burden per response (in hrs) | Total burden (in hrs)
General Population | Screening and Consent Process | 13,074 | 1 | 5/60 | 1,090
Adults, ages 18 and older in the U.S | Smoker Wave 1 Survey | 4,720 | 1 | 30/60 | 2,360
| Smoker Follow-Up Survey (Wave 2) | 1,982 | 1 | 30/60 | 991
| Smoker Follow-Up Survey (Wave 3) | 1,982 | 1 | 30/60 | 991
| Smoker Follow-Up Survey (Wave 4) | 1,982 | 1 | 30/60 | 991
| Smoker Follow-Up Survey (Wave 5) | 1,982 | 1 | 30/60 | 991
| Nonsmoker Wave 1 Survey | 1,400 | 1 | 30/60 | 700
| Nonsmoker Follow-Up Survey (Wave 2) | 442 | 1 | 30/60 | 221
| Nonsmoker Follow-Up Survey (Wave 3) | 442 | 1 | 30/60 | 221
| Nonsmoker Follow-Up Survey (Wave 4) | 442 | 1 | 30/60 | 221
Total |  |  |  |  | 8,777

Leroy A. Richardson,
Chief, Information Collection Review Office, Office of Scientific Integrity, Office of the Associate Director for Science, Office of the Director, Centers for Disease Control and Prevention.

[FR Doc. 2013-27692 Filed 11-19-13; 8:45 am]

BILLING CODE 4163-18-P